DEPARTMENT OF TRANSPORTATION

Federal Highway Administration

Environmental Impact Statement: Oakland County, MI

AGENCY: Federal Highway Administration (FHWA), DOT.

ACTION: Notice of intent.

SUMMARY: The FHWA is issuing this notice to advise the public that an environmental impact statement will be prepared for the I-75 Oakland County Planning/Environmental Study.

FOR FURTHER INFORMATION CONTACT: James A. Kirschensteiner, Assistant Division Administrator, Federal Highway Administration, 315 West Allegan Street, Room 207, Lansing, Michigan 48933, Telephone: (517) 702-1835, Fax: 377-1804, email james.kirschensteiner@fhwa.dot.gov

SUPPLEMENTARY INFORMATION: The FHWA, in cooperation with the Michigan Department of Transportation, will prepare an environmental impact statement (EIS) on a proposal to add an additional through travel land in each direction on I-75 between 8-Mile Road and M-59 to bring the total number of through travel lanes to four in each direction, together with other improvements. Improvements are considered necessary to provide for improved travel on I-75, which is already highly congested through much of the day. The EIS will include the evaluation of recommendations from the previous I-75 Corridor Feasibility Study (November 2000), including a through analysis of transit alternatives utilizing the Southeast Michigan Council of governments (SEMCOG) Transit Vision and the 1999 Southeast Michigan High Occupancy Vehicle (HOV) Feasibility Study. The Feasibility Study recommended the addition of a fourth lane in those areas where it is needed to provide four through lanes, improving several interchanges, and implementing intelligent transportation systems (ITS) throughout the corridor.

Alternatives under consideration include (1) taking no action; (2) providing mass transit; (3) implementing transportation system management and/or transportation demand management techniques; (4) developing the proposed lanes for use either all day or during a portion of the day by high occupancy vehicles (carpools, vanpool, and buses) only; and (5) developing normal, unrestricted freeway travel lanes.

Letters describing the proposed action and soliciting comments will be sent to appropriate federal, state, and local agencies, and to private organizations and citizens who have previously expressed or are known to have an interest in this proposal. Five rounds of public meetings were held during the Feasibility Study phase during 1999 and 2000. Additional meetings and a public hearing are planned. Public notice will be given of the time and place of the hearing(s). The draft EIS will be available for public and agency review and comment prior to the public hearing. NO formal scoping meeting is planned at this time.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation of Federal programs and activities apply to this program.)
Issued on May 30, 2002
James J. Steele,
Division Administrator Lansing, Michigan.

[FR Doc. 02-15085 Filed 6-13-02; 8:45 am]

BILLING CODE 4910-22-M